DEPARTMENT OF TRANSPORTATION

Federal Highway Administration

Environmental Impact Statement (EIS); Sarasota and Charlotte Counties, FL

AGENCY: Federal Highway Administration (FHWA), DOT.

ACTION: Notice of Intent (NOI).

SUMMARY: The FHWA is issuing this notice to advise the public that an Environmental Impact Statement (EIS) will be prepared for a proposed highway project in Sarasota and Charlotte Counties, Florida.

FOR FURTHER INFORMATION CONTACT: Mr. Donald Davis, Programs Operation Engineer, Federal Highway Administration, 227 N. Bronough Street, Suite Room 2015, Tallahassee, Florida 32301-2015, Telephone: (850) 942-9650, Extension 3031.

SUPPLEMENTARY INFORMATION: The FHWA, in consultation with the Florida Department of Transportation, will prepare an EIS for a proposal to develop a north-south arterial linking S.R. 776 in the Englewood area of Charlotte County, Florida to I-75 in Sarasota County, Florida. The project area is approximately 48 square miles, which is four miles wide by 12 miles in length. The project limits are from the vicinity of the S.R. 776/Pine Street intersection to the I-75 interchange at River Road. This project is commonly referred to as the Englewood Interstate Connector. This project has been identified as a high priority by both the Sarasota/Manatee and Charlotte County-Punta Gorda Metropolitan Planning Organizations and is needed to accommodate future growth and to serve as an additional hurricane evacuation route. Alternatives to be considered for this arterial will include a new roadway alignment(s), utilizing the existing River Road alignment and a combination of each. A no-build alternative will also be considered.

Letters describing the appropriate action and soliciting comments will be sent to appropriate Federal, State, and local agencies, and to private organizations and citizens who have expressed an interest in this proposal. Public meetings will be held in the study area until June 2001. In addition, a Public Hearing will be held in the study area. Public notice will be given of the time and place of the meetings and hearings. The Draft EIS will be made available to the public and organizations for their review and comments. The formal scoping meeting date is not available at this time.

To ensure that the full range of issues related to the proposed action are addressed and all significant issues identified, comments and suggestions are invited from all interested parties.

Comments or questions concerning this proposed action and the EIS should be directed to the FHWA at the address provided above.

(Catalog of Federal Domestic Assistance Program Number 20.205, Highway Research, Planning and Construction. The regulations implementing Executive Order 12372 regarding inter-governmental consultation on Federal programs and activities apply to this program.)
Issued On: November 1, 2000.
Donald Davis,
Program Operations Engineer, Tallahassee, Florida.

[FR Doc. 00-28871 Filed 11-9-00; 8:45 am]

BILLING CODE 4910-22-M